SURFACE TRANSPORTATION BOARD

[Docket No. FD 35998]

Wichita, Tillman & Jackson Railway Company—Lease Exemption Containing Interchange Commitment—Union Pacific Railroad Company

Wichita, Tillman & Jackson Railway Company (WTJR), a Class III rail carrier, has filed a verified notice of exemption under 49 CFR 1150.41 to continue to lease from Union Pacific Railroad Company (UP) approximately 16.55 miles of rail line located between milepost 0.99 at Wichita Falls, Tex., and milepost 17.54 near Burkburnett, Tex. (the Line).

WTJR states that it was originally authorized to lease the Line in 1991 ¹ and was authorized to renew the lease in 2010.² WTJR recently entered into a lease agreement which, among other things, extends the term of the lease for 10 years.³ As required by 49 CFR 1150.43(h)(1), WTJR has disclosed in its verified notice that the lease agreement contains an interchange commitment that affects the interchange point at Wichita Falls. In addition, WTJR has provided additional information regarding the interchange commitment as required by 49 CFR 1150.43(h). WTJR states that it will continue to be the operator of the Line.

¹ See Wichita, Tillman & Jackson Ry.—Lease & Operation Exemption—Mo. Pac. R.R., FD 31787 (ICC served Jan. 8, 1991).

² See Wichita, Tillman & Jackson Ry.—Lease Renewal Exemption—Union Pac. R.R., FD 35452 (STB served Dec. 23, 2010).

³ WTJR filed a confidential, complete version of the lease agreement to be kept confidential by the Board under 49 CFR 1104.14(a) without need for the filing of an accompanying motion for protective order under 49 CFR 1104.14(b)

WTJR certifies that its projected revenues as a result of the proposed transaction will not result in WTJR's becoming a Class II or Class I rail carrier and that its annual revenues do not exceed $5 million.

WTJR states that it intends to consummate the transaction on or shortly after March 18, 2016, the effective date of the exemption (30 days after the verified notice of exemption was filed).

If the verified notice contains false or misleading information, the exemption is void ab initio. Petitions to revoke the exemption under 49 U.S.C. 10502(d) may be filed at any time. The filing of a petition to revoke will not automatically stay the effectiveness of the exemption. Petitions for stay must be filed no later than March 11, 2016 (at least seven days before the exemption becomes effective).

An original and 10 copies of all pleadings, referring to Docket No. FD 35998, must be filed with the Surface Transportation Board, 395 E Street SW., Washington, DC 20423-0001. In addition, a copy of each pleading must be served on applicant's representative, Karl Morell, Karl Morell & Associates, Suite 225, 655 15th Street NW., Washington, DC 20005.

According to WTJR, this action is categorically excluded from environmental review under 49 CFR 1105.6(c).

Board decisions and notices are available on our Web site at WWW.STB.DOT.GOV.

Decided: March 1, 2016.
By the Board, Rachel D. Campbell, Director, Office of Proceedings.
Brendetta S. Jones,
Clearance Clerk.

[FR Doc. 2016-04836 Filed 3-3-16; 8:45 am]

BILLING CODE 4915-01-P